EMERGENCY STEEL GUARANTEE LOAN BOARD

13 CFR Part 400

[Docket No. 071031635-7636-01]

Offices of Emergency Steel Guarantee Loan Board

AGENCY: Emergency Steel Guarantee Loan Board.

ACTION: Final rule.

SUMMARY: The Emergency Steel Guarantee Loan Board (“Board”) has changed the location of its offices and is amending its regulations to reflect such change.

DATES: This rule is effective November 14, 2007.

ADDRESSES: Comments may be submitted by any of the following:

• E-mail: LoanBoard@doc.gov.

• Mail: Marcela Villalta Scott, General Counsel, Emergency Steel Guarantee Loan Board, U.S. Department of Commerce, Room 5876, Washington, DC 20230.

• Fax: 202-482-0512.

FOR FURTHER INFORMATION CONTACT: Marcela Villalta Scott, General Counsel, Emergency Steel Guarantee Loan Board, at (202) 482-3843 or LoanBoard@doc.gov.

SUPPLEMENTARY INFORMATION:

Background

The principal offices of the Emergency Steel Guarantee Loan Program as set forth in 13 CFR 400.103 have changed to the U.S. Department of Commerce, Washington, DC 20230.

Classification

Executive Order 12866

This final rule has been determined to be exempt from Executive Order 12866.

Administrative Procedure Act

This rule is exempt from the rulemaking requirements contained in 5 U.S.C. 553 pursuant to 5 U.S.C. 553(a)(2), as it involves a matter relating to loans and to Board management. As such, prior notice and an opportunity for public comment and a delay in effectiveness otherwise required under 5 U.S.C. 553 are inapplicable to this rule.

Regulatory Flexibility Act

Because this rule is not subject to a requirement to provide prior notice and an opportunity for public comment pursuant to 5 U.S.C. 553, or any other law, the analytical requirements of the Regulatory Flexibility Act, 5 U.S.C. 601 et seq., are inapplicable.

List of Subjects in 13 CFR Part 400

Administrative practice and procedure, Environmental impact statement, Freedom of Information, Loan Programs—Steel, Reporting and recordkeeping requirements.

Dated: November 7, 2007.
Marcela Villalta Scott,
General Counsel, Emergency Steel Guarantee Loan Board.

For the reasons set forth in the preamble, amend 13 CFR part 400 as follows:

1. The authority citation for part 400 continues to read as follows:

Authority: Pub. L. 106-51, 113 Stat. 252 (15 U.S.C. 1841 note).

2. Section 400.103 is revised to read as follows:

§ 400.103 Offices.

The principal offices of the Board are in the U.S. Department of Commerce, Washington, DC 20230.

[FR Doc. E7-22253 Filed 11-13-07; 8:45 am]

BILLING CODE 3510-NB-P